DEPARTMENT OF HOMELAND SECURITY

[USCG-2001-10486]

Approval of Ballast Water Treatment Systems

AGENCY: Coast Guard, DHS.

ACTION: Notice with request for comments.

SUMMARY: The Coast Guard seeks consultation with all interested and affected parties in establishing a program to approve ballast water treatment systems. The intent of this program is to ensure that ballast water treatment systems approved for use on-board vessels will meet the ballast water discharge standard the Coast Guard will be implementing in the near future to prevent the introduction and spread of nonindigenous species via ballast water discharges, as authorized by the Nonindigenous Aquatic Nuisance Prevention and Control Act and the National Invasive Species Act.

DATES: Comments and related material must reach the Docket Management Facility on or before December 3, 2004.

ADDRESSES: To make sure your comments and related material are not entered more than once in the docket, please submit them by only one of the following means:

(1) By mail to the Docket Management Facility (USCG-2001-10486), U.S. Department of Transportation, room PL-401, 400 Seventh Street, SW., Washington, DC 20590-0001.

(2) By delivery to room PL-401 on the Plaza level of the Nassif Building, 400 Seventh Street, SW., Washington, DC, between 9 a.m. and 5 p.m., Monday through Friday, except Federal holidays. The telephone number is (202) 366-9329.

(3) By fax to the Docket Management Facility at (202) 493-2251.

(4) Electronically through the Web site for the Docket Management System at http://dms.dot.gov.

In choosing among these means, please give due regard to the recent difficulties and delays associated with the delivery of mail through the U.S. Postal Service to Federal facilities. Delivery methods 2-4 of those listed above are the preferred methods because security measures taken by the U.S. Postal Service and Coast Guard mail reception facilities may seriously damage or render unreadable comments sent via regular mail.

The Docket Management Facility maintains the public docket for this rulemaking. Comments and material received from the public, as well as documents mentioned in this notice as being available in the docket, will become part of this docket and will be available for inspection or copying at room PL-401 on the Plaza level of the Nassif Building, 400 Seventh Street, SW., Washington, DC, between 9 a.m. and 5 p.m., Monday through Friday, except Federal holidays. You may also find this docket at the following Web site address: http://dms.dot.gov.

Electronic forms of all comments received into any of our dockets can be searched by the name of the individual submitting the comment (or signing the comment, if submitted on behalf of an association, business, labor unit, etc) and is open to the public without restriction. You may review the Department of Transportation's complete Privacy Act Statement in the Federal Register published on April 11, 2000 (65 FR 19477-78), or you may visit http://dms.dot.gov.

FOR FURTHER INFORMATION CONTACT: For information concerning this notice, call Mr. Bivan Patnaik, Project Manager, Environmental Standards Division, U.S. Coast Guard, telephone (202) 267-0995 or via e-mail bpatnaik@comdt.uscg.mil. If you have any questions on viewing or submitting material to the docket, call Ms. Andrea M. Jenkins, Program Manager, Docket Operations, Department of Transportation, telephone (202) 366-0271.

SUPPLEMENTARY INFORMATION:

Request for Comments

The Coast Guard encourages interested persons to submit written data, views, or comments. Persons submitting comments should please include their name and address and identify the docket number (USCG-2001-10486). You may submit your comments and material by mail, hand delivery, fax, or electronic means to the Docket Management Facility at the address under ADDRESSES; but please submit your comments and material by only one means. If you submit them by mail or hand delivery, submit them in an unbound format, no larger than 8½ by 11 inches, suitable for copying and electronic filing. If you submit them by mail and would like to know they were received, please enclose a stamped, self-addressed postcard or envelope.

Background and Purpose

The Nonindigenous Aquatic Nuisance Prevention and Control Act of 1990, as reauthorized and amended by the National Invasive Species Act of 1996, authorizes the Coast Guard to approve alternative ballast water management methods in lieu of ballast water exchange to prevent the introduction and spread of nonindigenous species (NIS) in U.S. waters via ballast water discharge. The Coast Guard will use information gathered from this notice to develop a comprehensive approval program to ensure ballast water treatment systems meet the ballast water discharge standard regulations, which we intend to promulgate in the near future. Commenters should note that the approval program will have to accommodate many different technologies as ballast water treatment options, as well as different types of vessels, and the costs associated with establishing this program. Commenters should also consider that treated ballast water may be sampled for the life of the treatment system as part of compliance measures to enforce ballast water discharge standards. In addition, commenters should be aware that the Environmental Protection Agency's Environmental Technology Verification Program (http://www.epa.gov/etv/), an independent technology evaluation program could be used in conjunction with our approval program. If commenters believe that an approval program is not warranted, comments on alternative programs and their associated costs would be beneficial.

The development of an approval program presents a complex challenge for the Coast Guard. We currently approve some equipment as a result of only land-based testing. The public should comment on if this is an adequate approach for approving ballast water treatment systems or should approval of these systems involve shipboard testing. The public should comment on appropriate water quality conditions, whether or not testing should include testing from both fresh water and salt water sources, and other environmental conditions that treatment systems should be subjected to as part of the approval program. The development of this program will require close collaboration between government agencies, the scientific community, water treatment experts, the shipping industry, and a wide range of stakeholders.

Public Meetings

At this time, the Coast Guard is looking into holding a public meeting, and the various types of venues for the meeting. You may submit requests and/or comments for a public meeting to the Docket Management Facility at the address under ADDRESSES explaining why one would be beneficial. If we determine that one would aid the development of this program, we will hold one at a time and place announced by a later notice in the Federal Register.

Dated: July 29, 2004.
Joseph J. Angelo,
Director of Standards, Marine Safety, Security & Environmental Protection.

[FR Doc. 04-17827 Filed 8-4-04; 8:45 am]

BILLING CODE 4910-15-P